CONSUMER PRODUCT SAFETY COMMISSION

16 CFR Part 1502

Confirmation of Effective Date of Rules Declaring Metal-Cored Candlewicks Containing Lead and Candles With Such Wicks To Be Hazardous Substances and Banning Them

AGENCY: Consumer Product Safety Commission.

ACTION: Final rule; confirmation of effective date.

SUMMARY: In the Federal Register of April 18, 2003, 68 FR 19142-8, the Consumer Product Safety Commission (the Commission) published final regulations declaring that metal-cored candlewicks containing more than 0.06 percent lead by weight in the metal and candles with such wicks are hazardous substances and banning such wicks and candles with such wicks. No objections were filed and no hearing was requested on the final regulations during the thirty day period commencing on the day after their publication in the Federal Register. Therefore, the Commission confirms that the final regulations become effective on October 15, 2003.

DATES: The final regulations at 68 FR 19142-8, April 18, 2003, become effective on October 15, 2003.

ADDRESSES: Copies of the final regulations declaring that metal-cored candlewicks containing more than 0.06 percent lead by weight in the metal and candles with such wicks are hazardous substances and banning such wicks and candles with such wicks are available for inspection at the Commission's Public Reading Room, Room 419, 4330 East-West Highway, Bethesda, Maryland. The regulations are also available on the CPSC Web site at www.cpsc.gov.

FOR FURTHER INFORMATION CONTACT: For further information on the final regulations declaring that metal-cored candlewicks containing more than 0.06 percent lead by weight in the metal and candles with such wicks are hazardous substances and banning such wicks and candles with such wicks, contact Geri Smith, Office of Compliance, Consumer Product Safety Commission, Washington, DC 20207; telephone (301) 504-7529; e-mail gsmith@cpsc.gov.

SUPPLEMENTARY INFORMATION: Procedures established by section 701(e) of the Federal Food, Drug, and Cosmetic Act, 21 U.S.C. 371(e), govern the Commission action to issue the final regulations declaring that metal-cored candlewicks containing more than 0.06 percent lead by weight in the metal and candles with such wicks are hazardous substances and banning such wicks and candles with such wicks. 15 U.S.C. 1262(a)(2) and 1261(q)(2). These procedures provide that once the Commission issues a final rule, persons who would be adversely affected by the rule have a period of thirty (30) days in which to file objections and request a public hearing on those objections. 21 U.S.C. 371(e)(2). If no objections are filed and no hearing is requested, the regulations become effective on the date specified in the regulations as issued. 21 U.S.C. 371(e)(1); 16 CFR 1502.14(a). If this is the case, after the thirty day period has run, the Commission publishes a notice in the Federal Register confirming the effective date. 16 CFR 1502.14(b). Accordingly, since no objections were filed and no hearing was requested during the thirty day period, the Commission confirms that the effective date of the final regulations published on April 15, 2003 at 68 FR 19147-8 declaring that metal-cored candlewicks containing more than 0.06 percent lead by weight in the metal and candles with such wicks are hazardous substances and banning such wicks and candles with such wicks is October 15, 2003.

Dated: June 20, 2003.
Todd A. Stevenson,
Secretary, Consumer Product Safety Commission.

[FR Doc. 03-16243 Filed 6-26-03; 8:45 am]

BILLING CODE 6355-01-P